DEPARTMENT OF HOUSING AND URBAN DEVELOPMENT

[Docket No. FR-5529-N-01]

Notice of Regulatory Waiver Requests Granted for the First Quarter of Calendar Year 2011

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2011, and ending on March 31, 2011.

FOR FURTHER INFORMATION CONTACT: For general information about this notice, contact Camille E. Acevedo, Associate General Counsel for Legislation and Regulations, Department of Housing and Urban Development, 451 Seventh Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the first quarter of calendar year 2011.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2011 through March 31, 2011. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2011) before the next report is published (the second quarter of calendar year 2011), HUD will include any additional waivers granted for the first quarter in the next report.

Accordingly, information about approved waiver requests pertaining to HUD regulations is provided in the Appendix that follows this notice.

Dated: June 20, 2011.
Helen R. Kanovsky,
General Counsel.

Appendix

Listing of Waivers of Regulatory Requirements Granted by Offices of the Department of Housing and Urban Development January 1, 2011 Through March 31, 2011

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The city park project in Joshua, TX entails the acquisition and development of a 19.35 acre park. The park includes the construction of the following: Multi use trails, baseball fields, splash station, basketball court, playground, restroom and concession facility, a ¾-acre excavated fishing pond, fishing pier, and enhancing the native landscaping on the western side of the park.

Plans for the park were underway prior to any indication that Congress would appropriate an Economic Development Special Purpose grant for its construction. The subject grant was funded through the Consolidated Appropriations Act 2010, signed into law on December 16, 2009, which provided special project grant funding to the City of Joshua for land acquisition, construction, and equipment for park areas.

The City of Joshua did not understand the environmental requirements as described in the Economic Development Initiative Special Project application kit and proceeded to enter into construction contracts for the park after the grant was appropriated, but before completing the environmental review and receiving an approved Request for Release of Funds from HUD.

Nature of Requirement: The regulation requires that an environmental review be performed and a Request for Release of Funds be completed and certified prior to the commitment of non-HUD funds to a project using HUD funds.

Granted By: Mercedes Márquez, Assistant Secretary for Community Planning and Development.

Date Granted: March 8, 2011.

Reason Waived: The waiver was granted because the above project would further the HUD mission and advance HUD program goals to develop viable, quality communities; the City of Joshua lacked experience administering HUD grants and the City stated it did not intend to violate HUD's environmental requirements. No HUD funds were committed. The waiver was conditioned upon the removal of an adjacent 500 gallon above ground residential propane tank. The granting of a waiver will not result in any unmitigated, adverse environmental impact.

Contact: Danielle Schopp, Office of Environment and Energy, Office of Community Planning and Development, Department of Housing and Urban Development, 451 Seventh Street, SW., Room 7250, Washington, DC 20410-7000, telephone (202) 402-4442.

• Regulation: 24 CFR 92.254(b)(2).

Project/Activity: Pierce County, Washington requested a waiver of the principal residency requirement to enable it to assist an elderly woman whose home is substandard and in need of rehabilitation. Because her husband permanently resides in a nursing home, a waiver of the principal residency requirement was needed to permit the County to rehabilitate her home with HOME funds.

Nature of Requirement: The HOME Program regulations at 24 CFR 92.254(b)(2) requires that owner-occupied housing to be rehabilitated with HOME funds be the principal residence of its owners. Consequently, a HOME participating jurisdiction (PJ) cannot provide HOME-funded, rehabilitation assistance to a unit that does not qualify if the owners do not maintain the property as their principal residence.

Granted By: Mercedes Márquez, Assistant Secretary for Community Planning and Development.

Reason Waived: A waiver of the principal residency requirement was granted to assist an elderly woman whose home is substandard and in need of rehabilitation because her husband, who is one of the owners, permanently resides in a nursing home.

Contact: Virginia Sardone, Acting Director, Office of Affordable Housing Programs, Office of Community Planning and Development, Department of Housing and Urban Development, 451 Seventh Street, SW., Room 7164, Washington, DC 20410-7000, telephone (202) 708-2470.

• Regulation: 24 CFR 570.206(a)(4) and 92.207(a)(4).

Project/Activity: The Los Angeles County of California, requested a waiver of 24 CFR 570.206(a)(4) and 92.207(a)(4), to provide for use of a long-term capital lease to acquire real property for program administrative purposes, beginning with its July 1, 2008, program year start date.

Nature of Requirement: The regulations at 24 CFR 570.206(a)(4) and 92.207(a)(4) limit expenditures for program administrative space to rental and maintenance costs, but do not provide for the purchase or acquisition of administrative office space. The intent of the regulation is to preclude the use of program funds for long-term acquisition financing because of the uncertainty of annual appropriations for CDBG and HOME programs.

Granted By: Mercedes Márquez, Assistant Secretary for Community Planning & Development.

Date Granted: February 9, 2011.

Reason Waived: The waiver request of Los Angeles County cited as good cause the long-term and short-term savings that result from the ultimate acquisition of the office building. In addition to having all the County's offices in the same building, access to public transportation for both employees and the general public, this waiver allowed for the acquisition of an asset without lease payments at the end of 30 years.

Contact: Julia Neidecker-Gonzales, Office of Block Grant Assistance, Entitlement Communities Division, Office of Community Planning and Development, 451 Seventh Street, SW., Room 7282, Washington, DC 20410-7000, telephone: (202) 708-1577.

Date Granted: March 15, 2011.

• Regulation: Section III.A. of the Notice of Allocations, Application Procedures, and Requirements for Homeless Prevention and Rapid Re-Housing Program (HPRP) Grantees under the American Recovery and Reinvestment Act of 2009 (Recovery Act of 2009), issued March 19, 2009 (HPRP Notice).

Project/Activity: HPRP grantee, the State of Montana, requested a waiver of section III.A. of the HPRP Notice in order to retain and use a portion of its grant funds to pay the costs of its Homeless Management Information System (HMIS) to collect data on the activities and persons assisted under its HPRP grant.

Nature of Requirement: Section III.A. of the HPRP Notice provides that a state grantee must make available all of its formula allocation, except for an appropriate share of funds for administrative costs, to units of general local government and private nonprofit organizations in the state to carry out all eligible activities.

Granted By: Mercedes Márquez, Assistant Secretary for Community Planning and Development.

Date Granted: February 7, 2011.

Reason Waived: The grantee provided sufficient information for HUD to conclude the following: (1) The HMIS is already in place; (2) the HMIS is administered by the State of Montana; and (3) the alternative proposal of utilizing a fee structure to administer HMIS and meet the requirements in the Recovery Act would impose additional administrative burdens for the State.

Contact: Ann M. Oliva, Director, Office of Special Needs Assistance Programs, Office of Community Planning and Development, Department of Housing and Urban Development, 451 Seventh Street, SW., Room 7262, Washington, DC 20410-7000, telephone (202) 708-4300.

II. Regulatory Waivers Granted by the Office of Housing—Federal Housing Administration (FHA)

For further information about the following regulatory waivers, please see the name of the contact person that immediately follows the description of the waiver granted.

• Regulation: 24 CFR 203.37a(b)(2).

Project/activity: Properties eligible for FHA-insured mortgages.

Nature of Requirement: Generally, a mortgage for a property will not be eligible for FHA insurance if the contract of sale for the purchase of the property is executed within 90 days of the prior acquisition by the seller.

Granted By: David H. Stevens, Assistant Secretary for Housing—Federal Housing Commissioner.

Date Granted: January 28, 2011 (extends existing waiver through December 31, 2011)

Reason Waived: By notice published in the Federal Register on February 3, 2011 (76 FR 6149), HUD announced the extension of the availability of the temporary waiver of its regulation that prohibits the use of FHA financing to purchase single family properties that are being resold within 90 days of the previous acquisition, until December 31, 2011. This waiver, which was originally issued in January 2010, took effect for all sales contracts executed on or after February 1, 2010. In extending the waiver, HUD determined that acquiring, rehabilitating and the reselling recently acquired properties to prospective homeowners often takes less than 90 days. During this period of abandoned and foreclosed homes, prohibiting the use of FHA mortgage insurance for a subsequent resale within 90 days of acquisition adversely impacts the willingness of sellers to allow contracts from potential FHA buyers because they must consider holding costs and the risk of vandalism associated with allowing a property to sit vacant over a 90-day period of time. Extending the existing waiver continues to permit buyers to use FHA-insured financing to purchase HUD-owned properties, bank-owned properties, or properties resold through private sales. The extension of the waiver allows homes to resell as quickly as possible, helping to stabilize real estate prices and to revitalize neighborhoods and communities.

Contact: Karin B. Hill, Director, Office of Single Family Housing Program Development, Office of Housing, Department of Housing and Urban Development, 451 Seventh Street, SW., Room 9278, Washington, DC 20410-8000, telephone (202) 402-7308.

• Regulation: 24 CFR 207.258b.

Project/activity: Section 232 insurance for healthcare facilities.

Nature of Requirement: The regulations at 24 CFR 207.258b addresses partial payment of claims and provides that when the Commissioner receives notice under 24 CFR 207.258 of a mortgagee's intention to file an insurance claim and to assign the mortgage to the Commissioner, the Commissioner may request the mortgagee, in lieu of assignment, to accept a partial payment of claim under the mortgage insurance contract. The regulations specify the conditions under which a partial payment of claim may be made, but the regulations exclude healthcare facilities insured under Section 232 of the National Housing Act from eligibility to accept partial payment of claim.

Granted By: David H. Stevens, Assistant Secretary for Housing—Federal Housing Commissioner.

Date Granted: March 11, 2011

Reason Waived: Through Mortgagee Letter 2011-15, issued March 11, 2011, the requirements of 24 CFR 207.258b were waived to remove the prohibition of allowing healthcare facilities to benefit from partial payment of claim. The statute does not exclude healthcare facilities and the applicable regulations are being updated to reflect the statutory authorization.

Contact: John Hartung, Supervisory Account Executive, Division of Residential Care Facilities, Office of Healthcare Program, Office of Housing, Department of Housing and Urban Development, 451 Seventh Street, SW., Washington, DC 20410-8000, telephone (314) 539-6333.

• Regulation: 24 CFR 219.220(b).

Project/Activity: Forest Hills Cooperative, Ann Arbor, Michigan—FHA Project Number 044-44158/59/60/61/62. The owner requested approval to defer repayment of the Flexible Subsidy Operating Assistance loan on this project to restore financial soundness and complete needed rehabilitation.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted By: David H. Stevens, Assistant Secretary for Housing-Federal Housing Commissioner.

Date Granted: January 10, 2011.

Reason Waived: This waiver was granted in order to allow the owner to re-amortize the Flexible Subsidy Operating Assistance Loan over a 30-year period, execute and record a new Rental Use Agreement for the term of the re-amortized Residual Receipts Note. With the increase of the availability of funds, the property's financial soundness would be stabilized and much-needed rehabilitation can take place. The property would be preserved as an affordable housing resource.

Contact: Marilyn M. Edge, Acting Director, Office of Asset Management, Office of Housing, Department of Housing and Urban Development, 451 Seventh Street, SW., Room 6164, Washington, DC 20410-8000, telephone (202) 708-3730.

• Regulation: 24 CFR 219.220(b).

Project/Activity: In-Chu-Co Apartments, Chapel Hill, North Carolina—FHA Project Number 053-44032. The owner requested to defer repayment of the Flexible Subsidy Operating Assistance Loan on this project until the maturity date of the proposed HUD insured loan to restore financial and physical soundness to the property.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: David H. Stevens, Assistant Secretary for Housing-Federal Housing Commissioner.

Date Granted: January 26, 2011.

Reason Waived: The owner requested waiver of the requirement to defer repayment of this loan because there is insufficient cash flow from projected revenues from project operations to make monthly debt service payments for repayment of the Flexible Subsidy Operating Loans. The project is 37 years old, has urgent physical needs such as repairs, replacements and updates required by the Project's Capital Needs Assessment. Waiver of this regulation allowed the owner to obtain new financing to repay the existing loans over the term of the new mortgage loan and carryout needed rehabilitation. A new Rental Use Agreement will be recorded ahead of any new financing extending the affordability of the project for 40 years.

Contact: Marilyn M. Edge, Acting Director, Office of Asset Management, Department of Housing and Urban Development, 451 Seventh Street, SW., Room 6164, Washington, DC 20410-8000, telephone (202) 708-3730.

• Regulation: 24 CFR 219.220(b).

Project/Activity: Danube Apartments, Dorchester, Massachusetts—FHA Project Number 023-55165. The owner requested to defer repayment of the Flexible Subsidy Operating Assistance Loan to achieve the long-term preservation of the project.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted By: David H. Stevens, Assistant Secretary for Housing-Federal Housing Commissioner.

Date Granted: March 15, 2011.

Reason Waived: The owner requested and was granted a waiver to defer repayment of the Flexible Subsidy Operating Assistance Loan at the time of repayment of the mortgage. This waiver allowed the owner to utilize funds to complete many necessary repairs at the project, thereby strengthening the physical and financial stability of the project. The owner executed a new 40-year Rental Use Agreement. This waiver also prevented displacement of tenants and serve to preserve this project as an affordable housing resource.

Contact: Marilyn M. Edge, Acting Director, Office of Asset Management, Office of Housing, Department of Housing and Urban Development, 451 Seventh Street, SW., Room 6164, Washington, DC 20410-8000, telephone (202) 708-3730.

• Regulation: 24 CFR 891.100(d) and 24 CFR 891.165.

Project/Activity: PCA Senior Residence, Astoria, NY, Project Number: 012-EE346/NY36-S061-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing-Federal Housing Commissioner.

Date Granted: January 21, 2011.

Reason Waived: The project is economically designed and comparable in cost to similar projects in the area, and the sponsor/owner has exhausted all efforts to obtain additional funding from other sources and additional time was needed to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.130(b).

Project/Activity: PCA Senior Residence, Astoria, NY, Project Number: 012-EE346/NY36-S061-002.

Nature of Requirement: Section 891.130(b) prohibits an identity of interest between the sponsor or owner (or Borrower, as applicable) and any development team member or between development team members until two years after final closing.

Granted by: David H. Stevens, Assistant Secretary for Housing-Federal Housing Commissioner.

Date Granted: January 28, 2011.

Reason Waived: To permit an identity of interest for this mixed financed project between the ownership entity and the joint developer, and between the contractor and joint developer.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Park Side Apartments, Terra Alta, WV, Project Number: 045-EE031/WV15-S071-002.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 4, 2011.

Reason Waived: Additional time was needed to review the revised closing documents and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Lane Manor, Lithonia, GA, Project Number: 061-EE166/GA06-S081-002.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 6, 2011.

Reason Waived: Additional time was needed to complete the preparation and submission of the firm commitment application and to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Evergreen Terrace, Albany, OH, Project Number: 043-EE124/OH16-S081-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 12, 2011.

Reason Waived: Additional time was needed to start initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Delta Twp—202, Albion, MI, Project Number: 047-EE048/MI33-S081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 12, 2011.

Reason Waived: Additional time was needed to receive and review the site plans, revise the construction drawings, to resubmit the firm commitment application, and reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Bakersfield Senior Apartments, Bakersfield, CA, Project Number: 122-EE208/CA16-S081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 20, 2011.

Reason Waived: Additional time was needed for the sponsor/owner to seek tax credits, prepare and submit the firm commitment application and for the project to achieve an initial closing.

Contact: Willie Spearmon, Director, Office of Housing Assistance and Grant Administration, Office of Housing, Department of Housing and Urban Development, 451 Seventh Street, SW., room 6134, Washington, DC 20410-8000, telephone (202) 708-3000.

• Regulation: 24 CFR 891.165.

Project/Activity: Leeway Welton Apartments, New Haven, CT, Project Number: 017-HD041/CT26-Q071-002.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 21, 2011.

Reason Waived: Additional time was needed to issue the firm commitment application and for a decision to be made of the zoning appeal.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Park Side Apartments, Terra Alta, WV, Project Number: 045-EE031/WV15-S071-002.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 21, 2011.

Reason Waived: Additional time was needed to review the closing documents and reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kearney Court, New Holland, OH, Project Number: 043-EE122/OH16-S081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 21, 2011.

Reason Waived: Additional time was needed to start initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: San Marino Apartments, San Marino, CA, Project Number: 143-EE062/CA43-S061-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 31, 2011.

Reason Waived: Additional time was needed to reach initial/final closing.

Contact: Willie Spearmon, Director, Office of Housing Assistance and Grant Administration, Office of Housing, Department of Housing and Urban Development, 451 Seventh Street, SW., room 6134, Washington, DC 20410-8000, telephone (202) 708-3000.

• Regulation: 24 CFR 891.165.

Project/Activity: Newbury Senior Housing, Newberry, NH, Project Number: 024-EE120/NH36-S081-006.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: January 31, 2011.

Reason Waived: Additional time was needed to resubmit the site and architectural plans to the Zoning Board for approval, resubmit the firm commitment application and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Apartments at St. Elizabeth's, Linden, NJ, Project Number: 031-HD155/NJ39-Q081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 1, 2011.

Reason Waived: Additional time was needed for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Willow Glen Apartments (aka Newton Falls), Newton Falls, OH,

Project Number: 042-EE223/OH12-S071-009.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 3, 2011.

Reason Waived: Additional time was needed for the initial closing package to be reviewed and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Volunteers of America National Services, Gary, IN, Project Number: 073-EE125/IN36-S081-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 4, 2011.

Reason Waived: Additional time was needed for the sponsor/owner to submit the firm commitment application and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Woodbourne House, Louisville, KY, Project Number: 083-EE112/KY36-S081-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 4, 2011.

Reason Waived: Additional time was needed for the sponsor/owner's application for the low income housing tax credits to be processed and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Cedars Apartments, Grants Pass, OR, Project Number: 126-HD048/OR16-Q081-004.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 4, 2011.

Reason Waived: Additional time was needed to review initial closing documents and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Edward Marx Apartments, Chicago, IL, Project Number: 071-EE244/IL06-S081-012.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 4, 2011.

Reason Waived: Additional time was needed to review the initial closing package and reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Russell School Apartments, Lexington, KY, Project Number: 083-EE113/KY36-S081-004.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 4, 2011.

Reason Waived: Additional time was needed for the sponsor/owner to receive a decision on their request to utilize the previous General Wage Decision chart and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kelsey Village Apartments, Sacramento, CA

Project Number: 136-HD022/CA30-Q071-002.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 4, 2011.

Reason Waived: Additional time was needed for the sponsor/owner to prepare and submit the firm commitment application, for review of the application and for the project to reach an initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Westcliff Pines Senior Apartments, Las Vegas, NV, Project Number: 125-EE131/NV25-S081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 14, 2011.

Reason Waived: Additional time was needed to review the firm commitment application and other mixed finance documents and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Armstrong Place Senior Apartments, San Francisco, CA, Project Number: 121-EE194/CA36-S061-006.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 14, 2011.

Reason Waived: Additional time was needed for this capital advance upon completion mixed finance project to complete its rent up in order to receive the construction pay off funds from the State of California' Multifamily Housing Program (MHP) and for the project to reach an final closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Villa Davis (fka Triple R Behavioral Health), Maricopa County, AZ, Project Number: 123-HD044/AZ20-Q081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 17, 2011.

Reason Waived: Additional time was needed for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Mosaic Housing XXI-Memphis, Memphis, TN, Project Number: 081-HD025/TN40-Q081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: February 23, 2011.

Reason Waived: Additional time was needed for the plans and specifications to be revised and resubmitted for further architectural review and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Roeser Haciendas Senior Housing, Phoenix, AZ, Project Number: 123-EE107/AZ20-S081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 3, 2011.

Reason Waived: Additional time was needed for the City of Phoenix Housing Department to receive archaeological data recovery and site monitoring information on the site, for the firm commitment application to be submitted and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Margaret Wagner Housing II, Cleveland Heights, OH, Project Number: 042-EE233/OH12-S081-008.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 3, 2011.

Reason Waived: Additional time was needed for the project to achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Sonrisa Apartments, Tucson, AZ, Project Number: 123-HD043/AZ20-Q081-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 3, 2011.

Reason Waived: Additional time was needed for the firm commitment application to be revised and the project to achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Colter Commons, Phoenix, AZ, Project Number: 123-EE109/AZ20-S081-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 3, 2011.

Reason Waived: Additional time was needed for the firm commitment application to be submitted and for the project to achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Village at Oasis Park Phase I, Mesa, AZ, Project Number: 123-HD042/AZ20-Q081-002.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 3, 2011.

Reason Waived: Additional time was needed for the firm commitment application to be issued and for the project to achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Victory Oaks at Saint Camillus, Silver Spring, MD, Project Number: 000-EE067/MD39-S081-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 8, 2011.

Reason Waived: Additional time was needed for the access road to be dedicated to the project, the firm commitment to be submitted and for the project to reach an initial closing.

Contact: Willie Spearmon, Director, Office of Housing Assistance and Grant Administration, Office of Housing, Department of Housing and Urban Development, 451 Seventh Street, SW., room 6134, Washington, DC 20410-8000, telephone (202) 708-3000.

• Regulation: 24 CFR 891.165.

Project/Activity: Benedict's Place, Cherry Hill, NJ, Project Number: 035-EE056/NJ39-S081-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 17, 2011.

Reason Waived: Additional time was needed for the firm commitment application to be submitted and reviewed and for the project to achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Estabrook Place, San Leandro, CA, Project Number: 121-EE203/CA39-S071-007.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: March 30, 2011.

Reason Waived: Additional time was needed for the initial/final closing documents to be submitted and reviewed for this Capital Advance Upon Completion mixed finance project.

Contact: Willie Spearmon, Director, Office of Housing Assistance and Grant Administration, Office of Housing, Department of Housing and Urban Development, 451 Seventh Street, SW., room 6134, Washington, DC 20410-8000, telephone (202) 708-3000.

• Regulation: 24 CFR 891.805 and 24 CFR 891.830(b).

Project/Activity: Armory Lane Housing, Vergennes, VT, Project Number: 024-EE136/VT36-S091-004.

Nature of Requirement: Section 891.805 requires that the Sole General Partner of the Mixed Finance Owner be a Private Nonprofit Organization with a 501(c)(3) or 501(c)(4) tax exemption (in the case of supportive housing for the elderly), or a Nonprofit Organization with a 501 (c)(3) (in the case of supportive housing for persons with disabilities. Section 891.830(b) requires that capital advance funds be drawn down only in an approved ratio to other funds, in accordance with a drawdown schedule approved by HUD.

Granted by: David H. Stevens, Assistant Secretary for Housing-Federal Housing Commissioner.

Date Granted: March 30, 2011.

Reason Waived: To permit the sole general partner of the subject project to be a for-profit corporation that is wholly owned and controlled by the nonprofit sponsor. Also to allow the capital advance to be drawn down in one requisition, to pay off that portion of a bridge or construction financing, or bonds that strictly relate to capital advance eligible costs after completion of construction at initial/final closing.

Contact: Willie Spearmon, Director, Office of Housing Assistance and Grant Administration, Office of Housing, Department of Housing and Urban Development, 451 Seventh Street, SW., Room 6134, Washington, DC 20410-8000, telephone (202) 708-3000.

• Regulation: 24 CFR 891.410(c).

Project/Activity: Parker Heights Apartments, Butler, Pennsylvania—FHA Project Number 033-EE019/PA28-S921-003. The project is experiencing difficulty leasing units to eligible very low-income elderly applicants.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: David H. Stevens, Assistant Secretary for Housing-Federal Housing Commissioner.

Date Granted: March 23, 2011.

Reason Waived: The management agent, the Housing Authority of the County of Butler, had aggressively marketed units but continues to experience vacancy problems at the project. Waiver of this regulation allowed the Housing Authority to lease units to low-income, near-elderly applicants for a period of 12 months. Applicants who apply after the waiver period must strictly meet the Section 202 statutory and regulatory requirements, including being very low-income elderly. This waiver will allow the property to rent-up its vacant units and thereby stabilize the project's financial status and prevent foreclosure of the property. This is a one-year, one-time waiver.

Contact: Marilyn M. Edge, Acting Director, Office of Asset Management, Office of Housing, Department of Housing and Urban Development, 451 Seventh Street, SW., Room 6164, Washington, DC 20410-8000, telephone (202) 708-3730.

• Regulation: 24 CFR 891.410(c).

Project/Activity: Heritage Senior Homes, Hanna City, Illinois—FHA Project Number: 072-EE164. The property is located in a very rural area and has been experiencing difficulty attracting eligible very-low income elderly applicants.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: David H. Stevens, Assistant Secretary for Housing -Federal Housing Commissioner.

Date Granted: February 1, 2011.

Reason Waived: This one-year, one-time waiver was granted to allow the owner to admit low-income and near-elderly applicants. However, first priority will be given to all qualified eligible applicants who meet the Section 202 very low-income guidelines. This waiver will assist in curing the existing vacancy problem, thereby stabilizing the project's current physical and financial status and preventing foreclosure. The property will continue as an affordable housing resource for the community.

Contact: Marilyn M. Edge, Acting Director, Office of Asset Management, Office of Housing, Department of Housing and Urban Development, 451 Seventh Street, SW., Room 6164, Washington, DC 20410-8000, telephone (202) 708-3730.

• Regulation: 24 CFR 891.410(c).

Project/Activity: Pheasant Run Apartments, Brookings, South Dakota—FHA Project Number SDD99-S051-002. This project is located in a very rural area with few conveniences for senior citizens. The owner/managing agent has requested waiver of the very low-income and elderly restriction to permit admission of low-income, near-elderly applicants to alleviate current vacancy problems at the property.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: David H. Stevens, Assistant Secretary for Housing-Federal Housing Commissioner.

Date Granted: February 3, 2011.

Reason Waived: This regulatory waiver was granted to cure the project's current vacancy problems. There was insufficient demand to fill the units with very low-income elderly applicants. However, first priority will be given to all qualified eligible applicants who meet the Section 202 very low-income guidelines. The owner/managing agent will have the flexibility to lease to qualified low-income, near elderly applicants only when there are no very low-income elderly applicants on the waiting list, thereby allowing the project to operate successfully and achieve full occupancy for the long term financial viability of the project.

Contact: Marilyn M. Edge, Acting Director, Office of Asset Management, Office of Housing, Department of Housing and Urban Development, 451 Seventh Street, SW., Room 6164, Washington, DC 20410-8000, telephone (202) 708-3730.

• Regulation: 24 CFR 891.410(c).

Project/Activity: Jewish Tower II (Zaban Tower), Atlanta, Georgia—FHA Project Number 061-EE047. This project is located in a very rural area with few conveniences for senior citizens.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: David H. Stevens, Assistant Secretary for Housing-Federal Housing Commissioner.

Date Granted: January 26, 2011.

Reason Waived: The owner/managing agent requested waiver of the very low-income and elderly restriction to permit admission of lower-income, near-elderly applicants to alleviate current vacancy problems at the property. However, first priority will be given to all qualified eligible applicants who meet the Section 202 very low-income guidelines. This one-year, one-time waiver will assist the owner in renting up vacant units and allow the project to operate successfully and achieve full occupancy for the long term financial viability of the project.

Contact: Marilyn M. Edge, Acting Director, Office of Asset Management, Office of Housing, Department of Housing and Urban Development, 451 Seventh Street, SW., Room 6164, Washington, DC 20410-8000, telephone (202) 708-3730.

• Regulation: 24 CFR 891.410(c).

Project/Activity: Kimberly Meadows, Nelsonville, Ohio—FHA Project Number 043-EH321. This Section 202 Housing for the Elderly property is experiencing severe vacancy problems.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: David H. Stevens, Assistant Secretary for Housing-Federal Housing Commissioner.

Date Granted: March 14, 2011.

Reason Waived: This project is located in a very rural area with few conveniences for senior citizens. The owner/managing agent requested waiver of the very low-income and elderly restriction to permit admission of lower-income, near-elderly applicants to alleviate the current vacancy problems at the property. However, first priority will be given to all qualified eligible applicants who meet the Section 202 very low-income guidelines. This one-year, one-time waiver will assist the owner in renting up vacant units and allow the project to operate successfully and achieve full occupancy for the long term financial viability of the project.

Contact: Marilyn M. Edge, Acting Director, Office of Asset Management, Office of Housing, Department of Housing and Urban Development, 451 Seventh Street, SW., Room 6164, Washington, DC 20410-8000, telephone (202) 708-3730.

• Regulation: 24 CFR 891.410(c).

Project/Activity: The Cottages of Delta Acres, Incorporated, Clarendon, Arkansas, FHA Project Number 082-EE127. This project is located in a very rural area with few conveniences for senior citizens. The owner/managing agent is having financial difficulty at the present occupancy level.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: David H. Stevens, Assistant Secretary for Housing-Federal Housing Commissioner.

Date Granted: March 14, 2011.

Reason Waived: This regulatory waiver was granted to allow the owner flexibility to lease units to applicants who are low-income and near-elderly, thereby assisting in alleviating the severe vacancy problem at the project. However, first priority will be given to all qualified eligible applicants who meet the Section 202 very low-income guidelines. This one-year, one-time waiver will assist the owner in achieving full occupancy at the project and maintain this project as an affordable housing resource for this community.

Contact: Marilyn M. Edge, Acting Director, Office of Asset Management, Office of Housing, Department of Housing and Urban Development, 451 Seventh Street, SW., Room 6164, Washington, DC 20410-8000, telephone (202) 708-3730.

• Regulation: 24 CFR 891.410(c).

Project/Activity: Rainbow of Challenges Homes of Bradley, Incorporated, Bradley, Arkansas—FHA Project Number 082-HD077. This project is located in a remote location and is experiencing difficulty at the present occupancy level.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: David H. Stevens, Assistant Secretary for Housing-Federal Housing Commissioner.

Date Granted: March 23, 2011.

Reason Waived: This property is restricted to very low-income, disabled applicants. The owner/managing agent has aggressively marketed these units to the target population with little success. Waiver of this regulation allowed admission of low-income, disabled applicants when there are no very low-income disabled applicants to fill vacant units. This one-year, one-time waiver will assist the owner in achieving full occupancy for the long term financial viability of the project.

Contact: Marilyn M. Edge, Acting Director, Office of Asset Management, Office of Housing, Department of Housing and Urban Development, 451 Seventh Street, SW, Room 6164, Washington, DC 20410-8000, telephone (202) 708-3730.

III. Regulatory Waivers Granted by the Office of Public and Indian Housing

For further information about the following regulatory waivers, please see the name of the contact person that immediately follows the description of the waiver granted.

• Regulation: 24 CFR 5.801(d)(1).

Project/Activity: Newark Housing Authority, (NJ002), Newark, NJ.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: January 31, 2011.

Reason Waived: The HA contends that their unaudited financial submission for fiscal year end (FYE) March 31, 2010, was finally approved by the Real Estate Assessment Center (REAC) on January 10, 2011. The unaudited financial submission was rejected by REAC staff twice before. Usually, the HAs use the results of the unaudited financial submission as the starting point of the audit. The waiver was granted and the additional time will permit the HA to input and complete the March 31, 2010, audited financial information.

Contact: Johnson Abraham, Program Manager, NASS, Real Estate Assessment Center, Office of Public and Indian Housing, Department of Housing and Urban Development, 550 12th Street, SW., Suite 100, Washington, DC 20410, telephone (202) 475-8583.

• Regulation: 24 CFR 5.801(d)(1).

Project/Activity: Punta Gorda Housing Authority, (FL060), Punta Gorda, FL.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: January 31, 2011.

Reason Waived: The HA contends that it needs additional time to submit its fiscal year end (FYE) March 31, 2010, audited financial submission. The additional time was needed because staffing changes adversely impacted the HA's ability to complete the auditors' open items in a timely and satisfactory manner. The waiver was granted and the additional time will permit the HA to input and complete the March 31, 2010, audited financial data, no later than March 31, 2011.

Contact: Johnson Abraham, Program Manager, NASS, Real Estate Assessment Center, Office of Public and Indian Housing, Department of Housing and Urban Development, 550 12th Street, SW., Suite 100, Washington, DC 20410, telephone (202) 475-8583.

• Regulation: 24 CFR 5.801(d)(1).

Project/Activity: Kent County Housing Authority, (MI198), Grand Rapids, MI.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: March 18, 2011.

Reason Waived: The HA, a Section 8 only entity, is requesting a waiver of the audited financial reporting requirements for fiscal year end (FYE) June 30, 2010. The HA contends that due to the inability of the County's Independent Public Accountant to complete the audit on time, additional time was needed to submit its audited financial information. Specifically, the County of Kent's (Primary Government) FYE is December 31, 2010, while the HA's FYE is June 30, 2010, thereby causing a timing difference between the audited due date. The waiver was granted and the HA must submit the audited financial submission by August 31, 2011.

Contact: Johnson Abraham, Program Manager, NASS, Real Estate Assessment Center, Office of Public and Indian Housing, Department of Housing and Urban Development, 550 12th Street, SW., Suite 100, Washington, DC 20410, telephone (202) 475-8583.

• Regulation: 24 CFR 982.505(c)(3).

Project/Activity: Garfield County Housing Authority (GCHA), Garfield County, CO.

Nature of Requirement: Section 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: February 16, 2011.

Reason Waived: This waiver was granted because this cost-saving measure would enable the GCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(d).

Project/Activity: Fairfax County Redevelopment and Housing Authority (FCRHA), Fairfax County, VA.

Nature of Requirement: Section 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: March 3, 2011.

Reason Waived: The applicant, who is disabled, requires a one-level accessible unit. To provide this reasonable accommodation so the client could be assisted in this unit and pay no more than 40 percent of his adjusted income toward the family share, the FCRHA was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51.

Project/Activity: Walworth County Housing Authority (WCHA), Walworth County, WI.

Nature of Requirement: This regulation requires competitive selection of owner proposals for project-based voucher (PBV) assistance unless the units were competitively selected under a similar competitive process for local, state or federal funds.

Granted By: Sandra B. Henriquez, Assistant Secretary for Public and Indian Housing.

Date Granted: February 7, 2011.

Reason Waived: Hartwell Apartments serves single, disabled individuals who were chronically homeless. The project was funded under the Continuum of Care (COC) Homeless Assistance Program; however, in 2008 no funds could be requested under the COC for leasing or operations which greatly impacted the fiscal health of the building. A waiver was granted so that rental assistance could be funded through the PBV program for this unique project with its vulnerable population.

Contact: Laure Rawson, Director, Housing Voucher Management and Operations Division, Office of Public Housing and Voucher Programs, Office of Public and Indian Housing, Department of Housing and Urban Development, 451 Seventh Street, SW., Room 4210, Washington, DC 20410, telephone (202) 708-0477.

[FR Doc. 2011-16047 Filed 6-24-11; 8:45 am]

BILLING CODE 4210-67-P